DEPARTMENT OF JUSTICE

Antitrust Division

Notice Pursuant to the National Cooperative Research and Production Act of 1993—1EdTech Consortium, Inc.

Notice is hereby given that, on February 6, 2024, pursuant to section 6(a) of the National Cooperative Research and Production Act of 1993, 15 U.S.C. 4301 et seq. (“the Act”), 1EdTech Consortium, Inc. (“1EdTech Consortium”) has filed written notifications simultaneously with the Attorney General and the Federal Trade Commission disclosing changes in its membership. The notifications were filed for the purpose of extending the Act's provisions limiting the recovery of antitrust plaintiffs to actual damages under specified circumstances. Specifically, Inspirit Learning Inc., Atlanta, GA; Benton School District #8, Benton, AR; Anne Arundel County Public Schools, Annapolis, MD; EdWire, San Antonio, TX; Indiana Commission for Higher Education, Indianapolis, IN; Ministère de l'Education Nationale et de la Jeunesse, Direction du numérique pour l'éducation, Paris, FRANCE; MSD of Steuben County, Angola, IN; MyInnerGenius, Marco Island, FL; Portland Public Schools, Portland, OR; Spring-Ford Area School District, Royersford, PA; Studynaut e-Learning Solutions, Alicante, SPAIN; SUNY System Administration, Albany, NY; Walmart, Bentonville, AR; and YuJa Corporation, San Jose, CA, have been added as parties to this venture.

Also, Actionly, Madera, CA; TiLT, Dublin, IRELAND; Seattle Public Schools, Seattle, WA; Holographic, San Francisco, CA; Linc, Miami Lakes, FL; EdGate, Gig Harbor, WA; and Tutor.com, New York, NY, have withdrawn as parties to this venture.

No other changes have been made in either the membership or planned activity of the group research project. Membership in this group research project remains open, and 1EdTech Consortium intends to file additional written notifications disclosing all changes in membership.

On April 7, 2000, 1EdTech Consortium filed its original notification pursuant to section 6(a) of the Act. The Department of Justice published a notice in the Federal Register pursuant to section 6(b) of the Act on September 13, 2000 (65 FR 55283).

The last notification was filed with the Department on November 10, 2023. A notice was published in the Federal Register pursuant to section 6(b) of the Act on December 15, 2023 (88 FR 86936).

Suzanne Morris,
Deputy Director Civil Enforcement Operations, Antitrust Division.

[FR Doc. 2024-07943 Filed 4-15-24; 8:45 am]

BILLING CODE P